DEPARTMENT OF COMMERCE

International Trade Administration

[A-475-820, A-588-843, A-580-829, A-469-807, A-583-828]

Stainless Steel Wire Rod From Italy, Japan, the Republic of Korea, Spain, and Taiwan: Final Results of the Expedited Sunset Reviews of the Antidumping Duty Orders

AGENCY: Import Administration, International Trade Administration, Department of Commerce.

SUMMARY: On July 1, 2009, the Department of Commerce (the Department) initiated sunset reviews of the antidumping duty orders on stainless steel wire rod (SSWR) from Italy, Japan, the Republic of Korea (Korea), Spain, and Taiwan, pursuant to section 751(c) of the Tariff Act of 1930, as amended (the Act). The Department has conducted expedited (120-day) sunset reviews for these orders pursuant to 19 CFR 351.218(e)(1)(ii)(C)(2). As a result of these sunset reviews, the Department finds that revocation of the antidumping duty orders would be likely to lead to continuation or recurrence of dumping.

DATES: Effective Date: October 30, 2009.

FOR FURTHER INFORMATION CONTACT: Holly Phelps or Elizabeth Eastwood, AD/CVD Operations, Office 2, Import Administration, International Trade Administration, U.S. Department of Commerce, 14th Street & Constitution Avenue, NW., Washington, DC 20230; telephone: (202) 482-0656 and (202) 482-3874, respectively.

SUPPLEMENTARY INFORMATION:

Background

On July 1, 2009, the Department published the notice of initiation of the sunset reviews of the antidumping duty orders on SSWR from Italy, Japan, Korea, Spain, and Taiwan pursuant to section 751(c) of the Act. See Initiation of Five-Year (“Sunset”) Reviews, 74 FR 31412 (July 1, 2009) (Notice of Initiation).

The Department received a notice of intent to participate from Carpenter Technology Corporation, a domestic interested party, within the deadline specified in 19 CFR 351.218(d)(1)(i). The company claimed interested party status under section 771(9)(C) of the Act as a manufacturer of a domestic like product in the United States.

The Department received a complete substantive response to the notice of initiation from the domestic interested party within the 30-day deadline specified in 19 CFR 351.218(d)(3)(i). We received no substantive responses from respondent interested parties with respect to any of the orders covered by these sunset reviews, nor was a hearing requested. As a result, pursuant to 19 CFR 351.218(e)(1)(ii)(C)(2), the Department conducted expedited (120-day) sunset reviews of the antidumping duty orders on SSWR from Italy, Japan, Korea, Spain, and Taiwan.

Scope of the Orders

The merchandise covered by these orders is SSWR, which comprises products that are hot-rolled or hot-rolled annealed and/or pickled and/or descaled rounds, squares, octagons, hexagons or other shapes, in coils, that may also be coated with a lubricant containing copper, lime, or oxalate. SSWR is made of alloy steels containing, by weight, 1.2 percent or less of carbon and 10.5 percent or more of chromium, with or without other elements. These products are manufactured only by hot-rolling or hot-rolling, annealing, and/or pickling and/or descaling, are normally sold in coiled form, and are of solid cross-section. The majority of SSWR sold in the United States is round in cross-sectional shape, annealed and pickled, and later cold-finished into stainless steel wire or small-diameter bar.

The most common size for such products is 5.5 millimeters or 0.217 inches in diameter, which represents the smallest size that normally is produced on a rolling mill and is the size that most wire-drawing machines are set up to draw. The range of SSWR sizes normally sold in the United States is between 0.20 inches and 1.312 inches diameter. Two stainless steel grades, SF20T and K-M35FL, are excluded from the scope of the order. The chemical makeup for the excluded grades is as follows:

SF20T:
Carbon | 0.05 max
Chromium | 19.00/21.00
Manganese | 2.00 max
Molybdenum | 1.50/2.50
Phosphorous | 0.05 max
Lead | added (0.10/0.30)
Sulfur | 0.15 max
Tellurium | added (0.03 min)
Silicon | 1.00 max.
K-M35FL:
Carbon | 0.015 max
Nickel | 0.30 max
Silicon | 0.70/1.00
Chromium | 12.50/14.00
Manganese | 0.40 max
Lead | 0.10/0.30
Phosphorous | 0.04 max
Aluminum | 0.20/0.35
Sulfur | 0.03 max.

The products subject to these orders are currently classifiable under subheadings 7221.00.0005, 7221.00.0015, 7221.00.0030, 7221.00.0045, and 7221.00.0075 of the Harmonized Tariff Schedule of the United States (HTSUS). Although the HTSUS subheadings are provided for convenience and customs purposes, the written description of the scope of these orders is dispositive.

Analysis of Comments Received

All issues raised in these reviews are addressed in the “Issues and Decision Memorandum for the Expedited Sunset Reviews of the Antidumping Duty Orders on Stainless Steel Wire Rod from Italy, Japan, the Republic of Korea, Spain, and Taiwan” from John M. Andersen, Acting Deputy Assistant Secretary for Antidumping and Countervailing Duty Operations, to Ronald K. Lorentzen, Acting Assistant Secretary for Import Administration (Oct. 29, 2009) (Decision Memo), which is hereby adopted by this notice. The issues discussed in the Decision Memo include the likelihood of continuation or recurrence of dumping and the magnitude of the margins likely to prevail if the orders were revoked. Parties can find a complete discussion of all issues raised in these reviews and the corresponding recommendations in this public memorandum which is on file in the Central Records Unit, room 1117 of the main Department building.

In addition, a complete version of the Decision Memo can be accessed directly on the Web at http://ia.ita.doc.gov/frn. The paper copy and electronic version of the Decision Memo are identical in content.

Final Results of Reviews

We determine that revocation of the antidumping duty orders on SSWR from Italy, Japan, Korea, Spain, and Taiwan would be likely to lead to continuation or recurrence of dumping at the following weighted-average percentage margins:

Manufacturers/exporters/producers | Weighted- average margin (percent)
Italy:
Cogne Acciai Speciali S.r.l. | 11.25
All-Others Rate | 11.25
Japan:
Daido Steel Co., Ltd. | 34.21
Nippon Steel Corp. | 21.18
Sanyo Special Steel Co., Ltd. | 34.21
Sumitomo Electric Industries, Ltd. | 34.21
All-Others Rate | 25.26
Korea:
Dongbang Special Steel Co., Ltd./Changwon Specialty Steel Co., Ltd./Pohang Iron and Steel Co., Ltd. | 5.77
Sammi Steel Co., Ltd. | 28.44
All-Others Rate | 5.77
Spain:
Roldan S.A. | 2.71
All-Others Rate | 2.71
Taiwan:
Walsin Cartech Specialty Steel Corp. | 8.29
All-Others Rate | 8.29

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: October 26, 2009.
John M. Andersen,
Acting Deputy Assistant Secretary for Antidumping and Countervailing Duty Operations.

[FR Doc. E9-26227 Filed 10-29-09; 8:45 am]

BILLING CODE 3510-DS-P